DEPARTMENT OF JUSTICE

Notice of Extension of Comment Period on Proposed Consent Decree

Notice is hereby given that the comment period on the proposed Consent Decree in United States of America et al. v. The Boeing Company, Civil Action No. 10-758 (W.D. Wa.), will be extended by sixty (60) days. Notice of the proposed Consent Decree was originally published on May 11, 2010. 75 FR 26,275. The original comment period therefore closed on June 10, 2010.

Following publication of the original Notice, the Department of Justice received requests from several interested parties asking that the comment period be extended for sixty (60) days. The requests noted that the proposed Consent Decree is the first proposed settlement of claims for resource damages caused by hazardous substances released from facilities along the Duwamish Waterway. The letters noted the complexity of the subject matter and stated that the original thirty (30) day comment period was not sufficient to adequately evaluate the proposed Consent Decree.

The natural resource trustees who are parties to the Proposed Consent decree have decided to allow the full 60-day extension of the comment period that was requested. Therefore, the Department of Justice will receive written comments relating to the proposed Consent Decree for an additional sixty (60) days after the original comment period, until and including August 9, 2010. Comments should be addressed to the Assistant Attorney General, Environment and Natural Resources Division, and either e-mailed to pubcomment-ees.enrd@usdoj.gov or mailed to P.O. Box 7611, U.S. Department of Justice, Washington, DC 20044-7611, and should refer to United States of America et al. v. The Boeing Company, DJ Reference No. 90-11-3-07227/1.

The Consent Decree may be examined at the Office of the United States Attorney, Western District of Washington, Office of the United States Attorney for the Western District of Washington, 5200 United States Courthouse, 700 Stewart Street, Seattle, WA 98101-1271. During the public comment period, the Consent Decree may also be examined on the following Department of Justice Web site: http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $26.75 (25 cents per page reproduction cost) payable to the United States Treasury or, if requesting by e-mail or fax, forward a check in that amount to the Consent Decree Library at the stated address.

Maureen Katz,
Assistant Section Chief, Environmental Enforcement Section, Environment and Natural Resources Division, United States Department of Justice.

[FR Doc. 2010-14449 Filed 6-15-10; 8:45 am]

BILLING CODE 4410-15-P